DEPARTMENT OF COMMERCE

International Trade Administration

[C-533-063]

Certain Iron-metal Castings From India: Rescission of Countervailing Duty Administrative Review

AGENCY: Import Administration, International Trade Administration, Department of Commerce.

ACTION: Notice of Rescission of Countervailing Duty Administrative Review.

SUMMARY: On November 30, 2000, in response to a request from Howrah Ferrous Limited, the Department of Commerce initiated an administrative review of the countervailing duty order on certain iron-metal castings from India. The administrative review covers the period January 1, 1999 through December 31, 1999. In accordance with 19 CFR 351.213(d)(1), the Department is now rescinding this review because the company has withdrawn its request for the review.

EFFECTIVE DATE: January 24, 2001.

FOR FURTHER INFORMATION CONTACT: Robert Copyak, Office of AD/CVD Enforcement VI, Group II, Import Administration, U.S. Department of Commerce, Room 4012, 14th Street and Constitution Avenue, NW., Washington, DC 20230; telephone (202) 482-2786.

SUPPLEMENTARY INFORMATION:

The Applicable Statute and Regulations

Unless otherwise indicated, all citations to the statute are references to the provisions of the Tariff Act of 1930, as amended (the Act) by the Uruguay Round Agreements Act (URAA), effective January 1, 1995. In addition, unless otherwise indicated, all citations to the Department's regulations reference 19 CFR part 351 (2000).

Background

On October 31, 1999, the Department received a request for an administrative review of the countervailing duty order on certain iron-metal castings from India from Howrah Ferrous Limited, for the period January 1, 1999 through December 31, 1999. On November 30, 2000, the Department published in the Federal Register (65 FR 71299) a notice of “Initiation of Countervailing Duty Administrative Review,” initiating the administrative review. On December 26, 2000, the company withdrew its request for the review.

Rescission of Review

The applicable regulation, 19 CFR 351.213(d)(1), states that if a party that requested an administrative review withdraws the request within 90 days of the date of publication of the notice of initiation of the requested review, the Secretary will rescind the review. In this case, respondents have withdrawn their request within the 90-day period. No other interested party requested a review, and we have received no other submissions regarding the withdrawal of the request for review. Therefore, we are rescinding this review of the countervailing duty order on certain iron-metal castings from India covering the period January 1, 1999 through December 31, 1999. We will issue appropriate appraisement instructions to the U.S. Customs Service.

This notice is in accordance with 19 CFR 351.213(d)(4) and section 777(i) of the Act.

Dated: January 16, 2001.
Holly A. Kuga,
Acting Deputy Assistant Secretary for Import Administration.

[FR Doc. 01-2056 Filed 1-23-01; 8:45 am]

BILLING CODE 3510-DS-P